DEPARTMENT OF ENERGY

Federal Energy Regulatory Commission

Combined Notice of Filings

October 14, 2010.

Take notice that the Commission has received the following Natural Gas Pipeline Rate and Refund Report filings:

Docket Numbers: RP11-59-000.

Applicants: Northwest Pipeline GP.

Description: Northwest Pipeline GP submits a Non-Conforming Service Agreement, Contract 138587 as part of its FERC Gas Tariff, Fifth Revised Volume No. 1, to be effective 11/8/2010.

Filed Date: 10/13/2010.

Accession Number: 20101013-5089.

Comment Date: 5 p.m. Eastern Time on Monday, October 25, 2010.

Docket Numbers: RP11-60-000.

Applicants: Southern Natural Gas Company.

Description: Southern Natural Gas Company submits tariff filing per 154.204: Miscellaneous Filing 2 to be effective 12/1/2010.

Filed Date: 10/13/2010.

Accession Number: 20101013-5094.

Comment Date: 5 p.m. Eastern Time on Monday, October 25, 2010.

Docket Numbers: RP11-61-000.

Applicants: Colorado Interstate Gas Company.

Description: Colorado Interstate Gas Company submits tariff filing per 154.203: CP10-434-000 Latigo Compliance Filing to be effective 10/1/2010.

Filed Date: 10/13/2010.

Accession Number: 20101013-5128.

Comment Date: 5 p.m. Eastern Time on Monday, October 25, 2010.

Docket Numbers: RP11-62-000.

Applicants: Columbia Gulf Transmission Company.

Description: Columbia Gulf Transmission Company submits tariff filing per 154.204: Evergreen Non-Conforming 10.13.10 to be effective 11/15/2010.

Filed Date: 10/13/2010.

Accession Number: 20101013-5173.

Comment Date: 5 p.m. Eastern Time on Monday, October 25, 2010.

Docket Numbers: CP11-4-000.

Applicants: Transcontinental Gas Pipe Line Company, LLC.

Description: Application of Transcontinental Gas Pipe Line Company, LLC to Abandon Service to Atlanta Gas Light Company under Rate Schedule SS-17© Storage Service and Rate Schedule SS-17© Transportation Service.

Filed Date: 10/07/2010.

Accession Number: 20101007-5069.

Comment Date: 5 p.m. Eastern Time on Monday, October 25, 2010.

Docket Numbers: TS10-4-000.

Applicants: City of Roseville, California.

Description: City of Roseville, California request for waiver from certain Commission orders and regulations relating to the Commission's implementation of reciprocity obligations under its open access requirements and the standards of conduct rules.

Filed Date: 09/13/2010.

Accession Number: 20100913-5213.

Comment Date: 5 p.m. Eastern Time on Wednesday, November 4, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-26856 Filed 10-22-10; 8:45 am]

BILLING CODE 6717-01-P